DEPARTMENT OF JUSTICE

[OMB Number 1110-0039]

Agency Information Collection Activities; Proposed eCollection; eComments Requested; Extension of a Currently Approved Collection; FBI Bioterrorism Preparedness Act Entity/Individual Information

AGENCY: Criminal Justice Information Services (CJIS) Division, Federal Bureau of Investigation (FBI), Department of Justice (DOJ).

ACTION: 30-Day notice.

SUMMARY: The Federal Bureau of Investigation (FBI), Criminal Justice Information Services (CJIS) Division, Department of Justice (DOJ), will be submitting the following information collection request to the Office of Management and Budget (OMB) for review and approval in accordance with the Paperwork Reduction Act of 1995.

DATES: Comments are encouraged and will be accepted for 30 days until August 1, 2024.

FOR FURTHER INFORMATION CONTACT: If you have comments especially on the estimated public burden or associated response time, suggestions, or need a copy of the proposed information collection instrument with instructions or additional information, please contact: Timothy R. Wiles, trwiles@fbi.gov, 304-625-4685, National Instant Criminal Background Check System Section (NICS), NICS External Service Unit, Federal Bureau of Investigation, CJIS Division, 1000 Custer Hollow Road, Clarksburg, West Virginia 26306.

SUPPLEMENTARY INFORMATION: The proposed information collection was previously published in the Federal Register on May 7, 2024 allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0039. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a currently approved collection.

2. Title of the Form/Collection: Federal Bureau of Investigation Bioterrorism Preparedness Act: Entity/Individual Information.

3. Agency form number, if any, and the applicable component of the Department of Justice sponsoring the collection: Agency form number: FD-961. Sponsoring component: Criminal Justice Information Services (CJIS) Division, Federal Bureau of Investigation (FBI), Department of Justice (DOJ).

4. Affected public who will be asked or required to respond, as well as a brief abstract:

Primary: Those individuals applying for access to biological select agents and toxins. This collection is needed for the FBI to conduct security risk assessments (SRAs) required by the Bioterrorism Act and to determine whether applicants should be denied access to or granted limited access to specific agents and toxins. That information is then used by the FBI in consultation with appropriate officials of the Department of Health and Human Services (HHS) and the Department of Agriculture (USDA) as to whether certain individuals specified in the provisions should be denied access to or granted limited access to specific agents.

5. Obligation to Respond: Individuals voluntarily provide the requested/collected information; however, providing such information is required to obtain approval for access to select agents and toxins. Total Estimated Number of Respondents: It is estimated that there are approximately 3,007 (FY 2003) respondents at 1 hour 30 minutes for the FD-961 form.

6. Total Estimated Number of Respondents: 3,007 total estimated respondents.

7. Estimated Time per Respondent: 1 hour and 30 minutes.

8. Frequency: The initial application and thereafter every 3 years for renewal.

9. Total Estimated Annual Time Burden: (90 minutes * 3,007 responses) = 270,630 minutes/60 minutes per hour = 4,510.5 hours.

10. Total Estimated Annual Other Costs Burden: It is estimated that respondents will incur approximately $3.07 for postage fees using U.S. Mail, to submit the FD-961 form and two completed fingerprint cards. It is estimated that the cost to the applicant to obtain a photograph that meets criteria specified in the instruction pages based on national averages would be $15. It is estimated that each applicant would travel approximately 3 miles one way and 6 miles round trip to a business to obtain a photo. This distance is estimated to take an amount of five minutes each way for a total of 10 minutes round trip. Also, to determine the travel cost to the respondent, Using the General Services Administration (GSA) reimbursement rate of $0.67 mile for privately owned automobiles (POA) use as of January 1, 2024, it is estimated that the travel cost per respondent is $4.02.

3,007 (number of respondents) × 6 (miles) × $0.67 (amount per mile) = $12,088.14

3,007 (number of respondents × $3.07 (postage) = $9,231.49

3,007 (number of respondents × $15.00 (picture at USPS) = $45,105

The total annual cost incurred by the FY2023 respondents is ($12,088.14 + $9,231.49 + $45,105) = $66,424.63 or $66,424.63/3,007 ($22.09 per person.)

If additional information is required, contact: Darwin Arceo, Department Clearance Officer, Policy and Planning Staff, Justice Management Division, United States Department of Justice, Two Constitution Square, 145 N Street NE, 4W-218, Washington, DC 20530.

Dated: June 27, 2024.
Darwin Arceo,
Department Clearance Officer for PRA, U.S. Department of Justice.

[FR Doc. 2024-14557 Filed 7-1-24; 8:45 am]

BILLING CODE 4410-02-P